NATIONAL SCIENCE FOUNDATION

Advisory Committee for International Science and Engineering; Notice of Meeting

In accordance with Federal Advisory Committee Act (Pub., L. 92-463, as amended), the National Science Foundation announces the following meeting:

Name: Advisory Committee for International Science and Engineering Meeting. #25104.

Date/Time: November 6, 2014: 11 a.m. to 2 p.m.

Place: National Science Foundation, 4121 Wilson Boulevard, Stafford II—Suite 1155, Arlington, Virginia 22230.

Type of Meeting: OPEN, VIRTUAL.

Contact Person: Diane Drew, National Science Foundation, 4201 Wilson Boulevard, Arlington, Virginia 22230 703-292-7220.

Minutes: Meeting minutes and other information may be obtained from the AC-ISE Designated Federal Official at the above address or the Web site at http://www.nsf.gov/od/iia/ise/advisory.jsp.

Purpose of Meeting: To provide advice and recommendations on major goals and policies pertaining to International programs and activities.

Agenda

Thursday, November 6, 2014 11 a.m.-2 p.m.

• Welcome and Opening Remarks

• Update on the Status of the ISE Section

• Presentation and Discussion of the Report from the ISE Committee of Visitors

• Presentation and Discussion of the Strategic Framework for International Engagement

• Discussion of Other Recent Evaluations of NSF International Activities

• (Tentative) Meeting with France Córdova, NSF Director

• Closing Remarks and Wrap Up

Dated: October 17, 2014.
Suzanne Plimpton,
Acting Committee Management Officer.

[FR Doc. 2014-25153 Filed 10-22-14; 8:45 am]

BILLING CODE 7555-01-P